COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add products and a service to the Procurement List that will be furnished by nonprofit agencies employing persons who are blind or have other severe disabilities, and deletes products previously furnished by such agencies.

DATES: Comments Must Be Received On Or Before: 6/23/2014.

ADDRESSES: Committee for Purchase From People Who Are Blind or Severely Disabled, 1401 S. Clark Street, Suite 10800, Arlington, Virginia, 22202-4149.

For Further Information Or To Submit Comments Contact: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

NSN: MR 1189—Drying Mat, Microfiber, Holiday Themed

NPA: New York City Industries for the Blind, Inc., Brooklyn, NY

Contracting Activity: DEFENSE COMMISSARY AGENCY, FORT LEE, VA

COVERAGE: C-List for the requirements of military commissaries and exchanges as aggregated by the Defense Commissary Agency.

NSN: MR 1194—Bottle, Water, Reusable, 26oz

NPA: Industries for the Blind, Inc., West Allis, WI

Contracting Activity: DEFENSE COMMISSARY AGENCY, FORT LEE, VA

COVERAGE: C-List for the requirements of military commissaries and exchanges as aggregated by the Defense Commissary Agency.

Pen, Ergonomic, Low Viscosity Ink, Retractable, Wide body

NSN: 7520-00-NIB-2194—Black, 1mm

NSN: 7520-00-NIB-2196—Blue, 1mm

NPA: Industries for the Blind, Inc., West Allis, WI

Contracting Activity: GENERAL SERVICES ADMINISTRATION, NEW YORK, NY

COVERAGE: A-List for the Total Government Requirement as aggregated by the General Services Administration.

Service

Service Type/Location: Laundry Service, Department of Veterans Affairs, Nebraska Western Iowa Health Care System and VA Central Iowa Health Care System, 2501 West 22nd Street, Sioux Falls, SD.

NPA: Goodwill Specialty Services, Inc., Omaha, NE

Contracting Activity: DEPARTMENT OF VETERANS AFFAIRS, 438-SIOUX FALLS VA MEDICAL CENTER, SIOUX FALLS, SD.

Deletions

The following products are proposed for deletion from the Procurement List:

Products

Cord Assembly, Elastic

NSN: 4020-01-072-4557

NSN: 4020-01-072-4558

NPA: Alpha Opportunities, Inc., Jamestown, ND

Contracting Activity: DEFENSE LOGISTICS AGENCY TROOP SUPPORT, PHILADELPHIA, PA

Powder Free, Latex and Polyisoprene

NSN: 6515-00-NIB-0555—Glove, Powder Free, Protegrity Smt

NSN: 6515-00-NIB-0556—Glove, Powder Free, Protegrity Smt

NSN: 6515-00-NIB-0557—Glove, Powder Free, Protegrity Smt

NSN: 6515-00-NIB-0558—Glove, Powder Free, Protegrity Smt

NSN: 6515-00-NIB-0559—Glove, Powder Free, Protegrity Smt

NSN: 6515-00-NIB-0560—Glove, Powder Free, Protegrity Smt

NSN: 6515-00-NIB-0561—Glove, Powder Free, Protegrity Smt

NSN: 6515-00-NIB-0562—Glove, Powder Free, Protegrity Smt

NSN: 6515-00-NIB-0563—Glove, Powder Free, Protegrity Micro Smt

NSN: 6515-00-NIB-0564—Glove, Powder Free, Protegrity Micro Smt

NSN: 6515-00-NIB-0565—Glove, Powder Free, Protegrity Micro Smt

NSN: 6515-00-NIB-0566—Glove, Powder Free, Protegrity Micro Smt

NSN: 6515-00-NIB-0567—Glove, Powder Free, Protegrity Micro Smt

NSN: 6515-00-NIB-0568—Glove, Powder Free, Protegrity Micro Smt

NSN: 6515-00-NIB-0569—Glove, Powder Free, Protegrity Micro Smt

NSN: 6515-00-NIB-0570—Glove, Powder Free, Protegrity Micro Smt

NPA: Bosma Industries for the Blind, Inc., Indianapolis, IN

Contracting Activity: DEPARTMENT OF VETERANS AFFAIRS, NAC, HINES, IL

Mattress, High Density Lumbar

NSN: 7210-00-NIB-0060

NSN: 7210-00-NIB-0061

NPA: RLCB, Raleigh, NC

Contracting Activity: W40M NORTHEREGION CONTRACT OFC, FORT BELVOIR, VA

Hydramax Hydration System

NSN: 8465-01-525-1559—Alpha, UCP, 120 oz

NSN: 8465-01-524-2144—Mustang, UCP, 120 oz

NSN: 8465-01-524-2764—Replacement Parts, Alpha and Mustang, 120 oz

NSN: 8465-01-524-2761—Mustang, Black, 120 oz

NPA: The Lighthouse for the Blind, Inc. (Seattle Lighthouse), Seattle, WA

Contracting Activity: GENERAL SERVICES ADMINISTRATION, FORT WORTH, TX

Folder, File

NSN: 7530-00-NSH-0073

NSN: 7530-00-NSH-0074

NSN: 7530-00-NSH-0075

NSN: 7530-00-NSH-0076

NSN: 7530-00-NSH-0077

NSN: 7530-00-NSH-0078

NSN: 7530-00-NSH-0079

NSN: 7530-00-NSH-0080

NSN: 7530-00-NSH-0081

NSN: 7530-00-NSH-0082

NPA: Goodwill Industries of the Pioneer Valley, Inc., Springfield, MA

Contracting Activity: GENERAL SERVICES ADMINISTRATION, NEW YORK, NY.

Barry S. Lineback,
Director, Business Operations.

[FR Doc. 2014-11973 Filed 5-22-14; 8:45 am]

BILLING CODE 6353-01-P